DEPARTMENT OF COMMERCE

National Oceanic and Atmospheric Administration

Agency Information Collection Activities; Submission to the Office of Management and Budget (OMB) for Review and Approval; Comment Request; North Atlantic Recreational Fishing Survey III

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 21, 2022, during a 60-day comment period. This notice allows for an additional 30 days for public comments.

Agency: National Oceanic and Atmospheric Administration (NOAA), Commerce.

Title: Survey to Collect Economic Data from Recreational Anglers Along the Atlantic Coast.

OMB Control Number: 0648-0783.

Form Number(s): None.

Type of Request: Regular [revision of currently approved information collections].

Number of Respondents: 442.

Average Hours per Response: Eligible Anglers, 14 minutes; Ineligible Anglers, 4 minutes.

Total Annual Burden Hours: 58.

Needs and Uses: This request is for revision and extension of a currently approved information collection and is sponsored by NOAA's Northeast Fisheries Science Center (NEFSC). The original data collection effort in 2019 under OMB Control Number 0648-0783 was to assess how changes in saltwater recreational fishing regulations affect angler effort, angler welfare, fishing mortality, and future stock levels. That data collection effort focused on anglers who fished for Atlantic cod and haddock off the Atlantic coast from Maine to Massachusetts (North Atlantic Recreational Fishing Survey I). In 2020, the collection was revised to remove the cod and haddock survey and add a survey focused on anglers who fish for summer flounder and black sea bass along the Atlantic coast from Massachusetts to North Carolina (North Atlantic Recreational Fishing Survey II). This current revision will re-add the original cod and haddock survey to this control number (North Atlantic Recreational Fishing Survey III).

The objective of this survey will be to update our understanding of how anglers who fish for Atlantic cod and haddock, respond to changes in management options and fishing regulations (e.g., bag limits, size limits, dates of open seasons, etc.) along the Atlantic coast from Maine to Massachusetts. The survey data will provide the information fisheries managers need to conduct updated and improved analysis of the socio-economic effects to recreational anglers and to coastal communities of proposed changes in fishing regulations. The recreational fishing community and regional fisheries management councils have requested more species-specific socio-economic studies of recreational fishing that can be used in the analysis of fisheries policies. This survey will address that stated need for more species-specific studies.

The survey population consists of those anglers who fish in saltwater along the North Atlantic coast from Maine to Massachusetts and who possess a license to fish. A sample of anglers will be drawn from state fishing license frames. The survey will be conducted using both mail and email to contact anglers and invite them to take the survey online. Anglers not responding to the online survey may receive a paper survey in the mail.

Affected Public: Individuals.

Frequency: The NARFS III will be a cross-sectional survey asking anglers to respond once to a single questionnaire.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0783.

Sheleen Dumas,
Department PRA Clearance Officer, Office of the Chief Information Officer, Commerce Department.

[FR Doc. 2022-11969 Filed 6-2-22; 8:45 am]

BILLING CODE 3510-22-P